OFFICE OF PERSONNEL MANAGEMENT

Submission for Review: Revision of an Existing Information Collection, USAJOBS®

AGENCY: U.S. Office of Personnel Management.

ACTION: 60-day notice and request for comments.

SUMMARY: The Office of Personnel Management (OPM) offers the general public and other Federal agencies the opportunity to comment on a revised information collection request (ICR) 3206-0219, USAJOBS. As required by the Paperwork Reduction Act of 1995, (Pub. L. 104-13, 44 U.S.C. chapter 35) as amended by the Clinger-Cohen Act (Pub. L. 104-106), OPM is soliciting comments for this collection. In particular, we invite comments that:

1. Evaluate whether the proposed collection of information is necessary for the proper performance of the functions of OPM, including whether the information will have practical utility;

2. Evaluate the accuracy of the OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until November 8, 2013. This process is conducted in accordance with 5 CFR 1320.1.

ADDRESSES: Interested persons are invited to submit written comments on the proposed information collection to the U.S. Office of Personnel Management, Chief Information Officer, USAJOBS, 1900 E Street NW., Washington, DC 20415, Attention: John Still or send them by email to john.still@opm.gov.

FOR FURTHER INFORMATION CONTACT: A copy of this ICR, with applicable supporting documentation, may be obtained by contacting the U.S. Office of Personnel Management, Chief Information Officer, USAJOBS, 1900 E Street NW., Washington, DC 20415, Attention: John Still, or by sending a request by email to john.still@opm.gov.

SUPPLEMENTARY INFORMATION: USAJOBS is the Federal Government's centralized source for most Federal jobs and employment information, including both positions that are required by law to be posted at that location and positions that can be posted there at an agency's discretion. The Applicant Profile and Resume Builder are two components of the USAJOBS application system. USAJOBS reflects the minimal critical elements collected across the Federal Government to assess an applicant's qualifications for Federal jobs under the authority of sections 1104, 1302, 3301, 3304, 3320, 3361, 3393, and 3394 of title 5, United States Code. This revision proposes to:

(a) Acknowledge the newest revision to the USAJOBS 3.0 system as USAJOBS.

(b) Make changes to the USAJOBS Applicant Profile to make the section more concise and easier for the applicant to understand and complete. Changes to the Applicant Profile include adding a new question on willingness to relocate. New fields will be added for telephone extensions and name prefixes and suffixes. The “Current Goal” field will be removed. In addition we will add and edit help language and make text, format and User Interface changes that will make the pages easier for applicants to navigate.

(c) Make changes to the USAJOBS Resume Builder that will improve navigation, make the builder both concise and easier for the applicant to complete. Changes include adding check boxes that read, “I do not wish to provide work experience,” “I do not wish to provide education,” and “References available upon request.” We will also make text and user interface changes throughout the resume builder to make the pages easier for the applicant to navigate, understand, and complete. Pursuant to a separate submission, we recently modified the “Do you claim veterans' preference” field to include a new option for 0-point Sole Survivorship Preference, to replace “wife” with spouse in the option for derived preference, and to add mother to the option for derived preference. In addition, we modified the Document Upload section to instruct current service members how to claim veterans' preference under the VOW (Veterans Opportunity to Work) to Hire Heroes Act of 2011.

Analysis

Agency: Office of Personnel Management.

Title: USAJOBS.

OMB Number: 3206-0219.

Frequency: Annually.

Affected Public: Individuals.

Number of Respondents: 1,060,591.

Estimated Time per Respondent: 43 minutes.

Total Burden Hours: 760,090.

U.S. Office of Personnel Management.
Elaine Kaplan,
Acting Director.

[FR Doc. 2013-21867 Filed 9-6-13; 8:45 am]

BILLING CODE 6325-47-P